DEPARTMENT OF EDUCATION

Office of Innovation and Improvement; Overview Information: Charter School Programs; Notice reopening fiscal year (FY) 2009 competition for Charter School Programs

Catalog of Federal Domestic Assistance (CFDA) Number: 84.282A.

SUMMARY: On December 15, 2008, we published in the Federal Register (73 FR 76014) a notice inviting applications for new awards for FY 2009 for the Charter School Programs (CSP). The original notice for the FY 2009 CSP competition established a January 29, 2009, deadline date for eligible applicants to apply for funding under this program. For this competition, applicants are required to submit their applications electronically through the Governmentwide Grants.gov site (www.Grants.gov). Grants.gov experienced a substantial increase in application submissions that resulted in system slowness on the deadline date. For this reason we are reopening and establishing new deadline dates for the FY 2009 competition for CSP. Applicants must refer to the notice inviting applications for new awards that was published in the Federal Register on December 15, 2009 (73 FR 76014) for all other requirements concerning this reopened competition. The new deadline dates are:

Deadline for Transmittal of Applications: February 25, 2009.

Applications for grants under this competition must be submitted electronically using the Grants.gov Apply site (Grants.gov). For information (including dates and times) about how to submit your application electronically, please refer to section IV. 6. Other Submission Requirements in the December 15, 2008, notice (73 FR 76016).

Note: For all applicants submitting a new application in accordance with this notice, please note that you must use the current application package posted on Grants.gov. That is, Grants.gov will reject any submission from the earlier application package, which was available on Grants.gov through the original application deadline of January 29, 2009.

Deadline for Intergovernmental Review: April 27, 2009.

FOR FURTHER INFORMATION CONTACT: Leslie Hankerson or Jeanne Siegel, U.S. Department of Education, 400 Maryland Avenue, SW., room 4W249, Washington, DC 20202-5970. Telephone: (202) 205-8524 or (202) 205-5482, or by e-mail: Leslie.Hankerson@ed.gov or Jeanne.Siegel@ed.gov.

If you use a telecommunications device for the deaf (TDD), call the Federal Relay Service (FRS), toll free, at 1-800-877-8339.

Individuals with disabilities can obtain a copy of the application package in an accessible format (e.g., braille, large print, audiotape, or computer diskette) by contacting either program contact person listed in this section.

SUPPLEMENTARY INFORMATION: Any eligible applicant may apply for funding under this program by the deadline date established in this notice. Eligible applicants that submitted their applications for the CSP FY 2009 competition to the Department before the competition's original deadline date of January 29, 2009, 4:30:00 p.m., Washington, DC time, are not required to resubmit their applications or re-apply in order to be considered for FY 2009 awards under this program. We encourage eligible applicants to submit their applications as soon as possible to avoid any problems with submitting electronic applications on the deadline date. The deadline for submission of applications will not be extended any further.

Electronic Access to This Document: You can view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Delegation of Authority: The Secretary of Education has delegated authority to Margo Anderson, Associate Assistant Deputy Secretary for Innovation and Improvement to perform the functions of the Assistant Deputy Secretary for Innovation and Improvement.

Dated: February 12, 2009.
Margo Anderson,
Associate Assistant Deputy Secretary for Innovation and Improvement.

[FR Doc. E9-3407 Filed 2-17-09; 8:45 am]

BILLING CODE 4000-01-P